DEPARTMENT OF EDUCATION

[Docket No.: ED_2015-ICCD-0112]

Agency Information Collection Activities; Comment Request; Data Challenges and Appeals Solution (DCAS)

AGENCY: Federal Student Aid (FSA), Department of Education (ED).

ACTION: Notice.

SUMMARY: In accordance with the Paperwork Reduction Act of 1995 (44 U.S.C. chapter 3507(j)), ED is requesting the Office of Management and Budget (OMB) to conduct an emergency review of a new information collection.

DATES: Approval by the OMB has been requested by October 15, 2015. A regular clearance process is also hereby being initiated. Interested persons are invited to submit comments on or before November 23, 2015.

ADDRESSES: Comments submitted in response to this notice should be submitted electronically through the Federal eRulemaking Portal at http://www.regulations.gov by selecting Docket ID number ED_2015-ICCD-0112 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Beth Grebeldinger, (202)377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Data Challenges and Appeals Solution (DCAS).

OMB Control Number: 1845-NEW.

Type of Review: A new information collection.

Respondents/Affected Public: Private Sector; State, Local or Tribal Governments.

Total Estimated Number of Annual Responses: 1,029,889.

Total Estimated Number of Annual Burden Hours: 175,081.

Abstract: This is a request for an emergency clearance approval for the Data Challenges and Appeals Solution (DCAS), a new system that will allow institutions to challenge their self-reported data as well as Department calculated metrics. The system will ultimately provide for the receipt, processing, data storage and archiving of data challenges received from institutions for challenges of Gainful Employment (GE) metrics, Cohort Default Rates (institutional and programmatic), and Disclosure Rates and Metrics. This request is for a new collection for the first phase of DCAS, the institutional challenge to the GE completers list provided to institutions by the Department of Education. The other aspects of DCAS will be made functional and available to institutions in stages, to allow for full development and testing, through subsequent system releases.

Additional Information: An emergency clearance approval for the use of the system is described below due to the following conditions:

• The Department's contracting process experienced a seven month setback when a contractor solicitation had to be cancelled and re-issued. In order to allow the challenge and appeal process to be implemented on time, the system must be able to accept challenges to the completer lists by November 9, 2015.

• The Department believes that students will be harmed if there is a delay in implementing the challenge process which will ultimately delay the issuance of final rates. The schedule is to have the final rates published and available to disclose to students by January 2017.

• Trends in graduates' earnings, student loan debt, defaults, and repayment underscore the need for the Department to act swiftly. The Gainful Employment accountability framework takes into consideration the relationship between total student loan debt and earnings after completion of a post-secondary program.

• The Gainful Employment regulation was issued after both negotiated rulemaking and notice-and-comment procedures. The full challenge and appeals process is already detailed at 34 CFR 668.405 and 668.406. Burden calculations were likewise already promulgated. Stakeholders and other interested parties have already had significant opportunities to give input on the process.

Dated: September 17, 2015.
Kate Mullan,
Acting Director, Information Collection Clearance Division, Privacy, Information and Records Management Services, Office of Management.

[FR Doc. 2015-23976 Filed 9-21-15; 8:45 am]

BILLING CODE 4000-01-P